DEPARTMENT OF HOMELAND SECURITY

Federal Emergency Management Agency

44 CFR Part 67

[Docket ID FEMA-2008-0020; Internal Agency Docket No. FEMA-B-1062]

Proposed Flood Elevation Determinations

AGENCY: Federal Emergency Management Agency, DHS.

ACTION: Proposed rule.

SUMMARY: Comments are requested on the proposed Base (1% annual-chance) Flood Elevations (BFEs) and proposed BFE modifications for the following communities: the City of St. Louis, St. Charles and St. Louis counties in Missouri; and Madison, Monroe, and St. Clair counties in Illinois. The communities addressed by this rule were the subject of an act of Congress which required the Federal Emergency Management Agency (FEMA) to delay the statutory appeals process required under Section 1363 of the National Flood Insurance Act of 1968, until certain publication requirements were met for each of these communities.

The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before October 6, 2009.

ADDRESSES: The corresponding preliminary Flood Insurance Rate Map (FIRM) for the proposed BFEs for each community are available for inspection at the community's map repository. The respective addresses are listed in the table below.

You may submit comments, identified by Docket No. FEMA-B-1062, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes and seeks comment on the Base (1% annual-chance) Flood Elevations (BFEs) and modified BFEs for each community listed below, in accordance with section 110 of the Flood Disaster Protection Act of 1973, 42 U.S.C. 4104, and 44 CFR 67.4(a).

Those communities affected by this proposed rule are the City of St. Louis, St. Charles and St. Louis counties in Missouri; and Madison, Monroe, and St. Clair counties in Illinois. The communities addressed by this rule were the subject of an act of Congress which required the Federal Emergency Management Agency (FEMA) to delay the statutory appeals process required under 1363 of the National Flood Insurance Act of 1968, until certain publication requirements were met for each of the included communities. Specifically, the legislation stated, “Until such time as preliminary flood insurance rate maps initiated prior to October 1, 2008 are completed and released for public review, preliminary base flood elevations are published in the Federal Register, and the second required local newspaper publication of such base flood elevations is made for the City of St. Louis, St. Charles and St. Louis counties in Missouri, and Madison, Monroe, and St. Clair counties in Illinois, the Administration shall not begin the statutory appeals process in such areas required under 1383 of the National Flood Insurance Act of 1968.” (Consolidated Security, Disaster Assistance, and Continuing Appropriations Act 2009, Pub. L. 110-329, Div. B, Sec. 10503, 122. Stat. 3574, 3593 (2008)). In accordance with the intent of the legislation, FEMA intends to initiate concurrent appeal periods for these Missouri and Illinois communities.

FEMA originally published BFEs for the affected Illinois communities in proposed rules in 2008. The proposed BFEs for Monroe and Madison counties published August 18, 2008, at 73 FR 48170. The proposed BFEs for St. Clair County published September 3, 2008, at 73 FR 51400. The proposed BFEs for Monroe, Madison, and St. Clair counties which published at 73 FR 48170 and 73 FR 51400 are withdrawn and replaced by the proposed BFEs set forth below in this rule. FEMA received no comments on the proposed rules published at 73 FR 48170 and 73 FR 51400. Only one minor change has been made in the proposed BFEs for these Illinois counties since the 2008 publications. In proposed rule 73 FR 48170 for Madison County, the existing BFE for the Mississippi River was listed as 403 feet using the North American Vertical Datum (NAVD). This was a typographical error and has been modified to reflect the correct existing BFE of 430 feet NAVD. This rule is the first publication of proposed BFEs for the affected Missouri counties.

These proposed BFEs and modified BFEs, together with the floodplain management criteria required by 44 CFR 60.3, are minimum requirements. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of St. Louis, Missouri
Missouri | City of St. Louis | Mississippi River | Approximately 0.5 miles upstream from the Poplar Street, Bridge | +427 | +426
|  |  | Approximately 0.6 miles upstream from US Interstate 270 at the northern boundary of the City of St. Louis | +434 | +433
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of St. Louis
Maps are available for inspection at 1200 Market Street, Room 400, St. Louis, MO 63103.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Madison County, Illinois, and Incorporated Areas
Cahokia Canal | Approximately 1,100 feet northeast of the intersection of Industrial Avenue and Cahokia Street, (City of Madison in St. Clair County) | None | +427 | Unincorporated Areas of Madison County, City of Collinsville, City of Madison, Village of Pontoon Beach.
| Diversion with Judys Branch and Burdick Branch | None | +433 |
Cahokia Creek | At confluence with Mississippi River | +436 | +434 | Unincorporated Areas of Madison County, Village of Hartford, Village of South Roxana.
| Approximately 0.5 mile downstream of State Route 255 | +436 | +435 |
Canteen Creek | Approximately 1.2 miles upstream of Collinsville Road | +426 | +427 | Unincorporated Areas of Madison County, City of Collinsville.
| Approximately 900 feet upstream of confluence with Cahokia Creek | None | +428 |
Judys Branch | At confluence with Cahokia Canal | +416 | +433 | Unincorporated Areas of Madison County, Village of Glen Carbon, Village of Pontoon Beach.
| Approximately 0.7 mile upstream of State Route 159 | None | +526 |
Judys Branch Tributary 10 | At confluence with Judys Branch | None | +506 | Village of Glen Carbon.
| Approximately 475 feet downstream of Green Acres Road | None | +507 |
Judys Branch Tributary 5 | At confluence with Judys Branch | None | +474 | Village of Glen Carbon.
| Approximately 350 feet upstream of Barkwood Lane | None | +483 |
Judys Branch Tributary 5a | At confluence with Judys Branch Tributary 5 | None | +486 | Village of Glen Carbon.
| Approximately 1,000 feet upstream of State Route 159 | None | +528 |
Judys Branch Tributary 5b | At confluence with Judys Branch Tributary 5 | None | +484 | Unincorporated Areas of Madison County, Village of Maryville, Village of Glen Carbon.
| Approximately 0.6 mile upstream of State Route 159 | None | +559 |
Judys Branch Tributary 9 | At confluence with Judys Branch | None | +495 | Unincorporated Areas of Madison County, Village of Glen Carbon.
| Approximately 300 feet upstream of E Ingle Drive | None | +497 |
Judys Branch Tributary 9a | At confluence with Judys Branch Tributary 9 | None | +499 | Unincorporated Areas of Madison County, Village of Glen Carbon.
| Approximately 150 feet upstream of Ash Road | None | +517 |
Judys Branch Tributary 9b | At confluence with Judys Branch Tributary 9 | None | +499 | Unincorporated Areas of Madison County.
| Approximately 750 feet east of Harvest Court | None | +508 |
Judys Creek | At confluence with Judys Branch | None | +457 | Unincorporated Areas of Madison County, Village of Glen Carbon.
| Approximately 0.9 mile upstream of Norfolk and Western Railway | None | +523 |
Judys Creek Tributary B | At confluence with Judys Creek | None | +491 | Unincorporated Areas of Madison County, Village of Glen Carbon.
| Approximately 275 feet downstream of Timberwolfe Drive | None | +508 |
Laurel Branch | At confluence with Lindenthal Creek | +490 | +486 | Unincorporated Areas of Madison County, City of Highland.
| Approximately 800 feet southwest of the intersection of 13th Street, and Laurel Street | None | +508 |
Laurel Branch Tributary 1 | At confluence with Laurel Branch | None | +497 | Unincorporated Areas of Madison County, City of Highland.
| Approximately 800 feet upstream of Willow Creek Drive | None | +531 |
Lindenthal Creek | Upstream side of Iberg Road | None | +474 | Unincorporated Areas of Madison County, City of Highland.
| Downstream side of Sportsman Road | None | +530 |
Lindenthal Creek Tributary 1 | At confluence with Lindenthal Creek | None | +529 | Unincorporated Areas of Madison County, City of Highland.
| Approximately 1,300 feet upstream of Troxler Avenue | None | +536 |
Lindenthal Creek Tributary 2 | At confluence with Lindenthal Creek Tributary 1 | None | +531 | Unincorporated Areas of Madison County, City of Highland.
| Approximately 400 feet upstream of U.S. Highway 40 | None | +540 |
Lindenthal Creek Tributary 3 | At confluence with Lindenthal Creek Tributary 2 | None | +531 | Unincorporated Areas of Madison County.
| Approximately 1,100 feet upstream of Confluence with Lindenthal Creek Tributary 2 | None | +531 |
Lindenthal Creek Tributary 4 | At confluence with Lindenthal Creek Tributary 1 | None | +531 | City of Highland.
| Approximately 300 feet south of Troxler Avenue | None | +535 |
Mississippi River | Near intersection of Schoenberger Creek No. 1 and I-55 in City of Madison (in St. Clair County) | +430 | +427 | Unincorporated Areas of Madison County, City of Alton, City of Collinsville, City of Edwardsville, City of Granite City, City of Madison, City of Venice, City of Wood River, Village of East Alton, Village of Glen Carbon, Village of Godfrey, Village of Hartford, Village of Pontoon Beach, Village of Roxana, Village of South Roxana.
| Madison County/Jersey County corporate limits | +438 | +437 |
Mooney Creek | Upstream side of Marine Road | +476 | +480 | Unincorporated Areas of Madison County, City of Edwardsville.
| Downstream side of Goshen Road | None | +525 |
Mooney Creek Tributary 1 | At confluence with Mooney Creek | None | +515 | City of Edwardsville.
| Approximately 800 feet upstream of Stonebrooke Drive | None | +520 |
Mooney Creek Tributary 2 | At confluence with Mooney Creek | None | +520 | City of Edwardsville.
| Approximately 1,300 feet downstream of Gusewelle Road | None | +538 |
Smith Lake Tributary | Approximately 0.5 mile downstream of E Edwardsville Road | None | +434 | Unincorporated Areas of Madison County, City of Wood River, Village of Roxana.
| Approximately 500 feet downstream of Lakin Blvd. | +433 | +434 |
Wood River | At confluence with Mississippi River | +437 | +435 | Unincorporated Areas of Madison County, City of Alton, Village of East Alton.
| Upstream side of Chicago Missouri & Western Railroad | +437 | +435 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Alton
Maps are available for inspection at 101 East Third Street, Alton, IL 62002.
City of Collinsville
Maps are available for inspection at 125 South Center Street, Collinsville, IL 62234.
City of Edwardsville
Maps are available for inspection at 118 Hillsboro Avenue, Edwardsville, IL 62025.
City of Granite City
Maps are available for inspection at 2000 Edison Avenue, Granite City, IL 62040.
City of Highland
Maps are available for inspection at 1115 Broadway, Highland, IL 62249-0218.
City of Madison
Maps are available for inspection at 615 Madison Avenue, Madison, IL 62060.
City of Venice
Maps are available for inspection at 1030 Market Street, Venice, IL 62090.
City of Wood River
Maps are available for inspection at 111 North Wood River Avenue, Wood River, IL 62095.
Unincorporated Areas of Madison County
Maps are available for inspection at 157 North Main Street, Edwardsville, IL 62025-1964.
Village of East Alton
Maps are available for inspection at 119 West Main Street, East Alton, IL 62024.
Village of Glen Carbon
Maps are available for inspection at 151 North Main Street, Glen Carbon, IL 62034.
Village of Godfrey
Maps are available for inspection at 6810 Godfrey Road, Godfrey, IL 62035.
Village of Hartford
Maps are available for inspection at 507 North Delmar Avenue, Hartford, IL 62048.
Village of Maryville
Maps are available for inspection at 2520 North Center Street, Maryville, IL 62062.
Village of Pontoon Beach
Maps are available for inspection at 1 Regency Parkway, Pontoon Beach, IL 62040.
Village of Roxana
Maps are available for inspection at 400 South Central Avenue, Roxana, IL 62084.
Village of South Roxana
Maps are available for inspection at 211 Sinclair Avenue, South Roxana, IL 62087.
Monroe County, Illinois, and Incorporated Areas
Carr Creek | At confluence with the Mississippi River | +420 | +418 | Unincorporated Areas of Monroe County.
| Just downstream of Bluff Road | +420 | +418
Kaskaskia River | Approximately 700 feet upstream of Anna Lane extended | +395 | +392 | Unincorporated Areas of Monroe County.
| Approximately 1,000 feet below Peacock Site Road extended | +395 | +393
Mississippi River | Approximately 1,500 feet upstream of DuFrenne Lane | +401 | +400 | City of Columbia, Unincorporated Areas of Monroe County, Village of Fults, Village of Valmeyer.
| Approximately 1.8 miles upstream of the Interstate 255 Bridge | +421 | +420
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Columbia
Maps are available for inspection at City Hall, 208 South Rapp Avenue, Columbia, IL 62236.
Unincorporated Areas of Monroe County
Maps are available for inspection at the Monroe County Courthouse, 100 South Main Street, Waterloo, IL 62298.
Village of Fults
Maps are available for inspection at the Fults Village Hall, 160 Main Street, Fults, IL 62244.
St. Clair County, Illinois, and Incorporated Areas
Catawba Creek | At confluence with Richland Creek | +497 | +493 | City of Belleville.
| Approximately 570 feet downstream of Catawba Avenue | +497 | +496
Douglas Creek | At confluence with Richland Creek | +433 | +432 | Unincorporated Areas of St. Clair County.
| Approximately 600 feet upstream of the confluence with Richland Creek | +433 | +432
Kaskaskia River | At County Boundary with Randolph County | +395 | +392 | Unincorporated Areas of St. Clair County, Village of New Athens.
| Approximately 8,000 feet upstream of Illinois Central Railroad | +395 | +394
Little Silver Creek | At confluence with Silver Creek | +429 | +428 | Unincorporated Areas of St. Clair County.
| Approximately 7,900 feet upstream of Interstate Highway 62 Westbound | +432 | +431
Mississippi River | Approximately 7,390 feet downstream of Southern County Boundary with Monroe County | None | +420 | City of Centreville, City of East St. Louis, Unincorporated Areas of St. Clair County, Village of Alorton, Village of Brooklyn, Village of Cahokia, Village of Caseyville, Village of Dupo, Village of East Carondelet, Village of Fairmont City, Village of Sauget, Village of Washington Park.
| Approximately 4,435 feet upstream of Northern County Boundary with Madison County | None | +429
Northwest Tributary to Ogles Creek | At confluence with Unnamed Tributary to Ogles Creek | +534 | +531 | City of O'Fallon.
| Approximately 110 feet upstream of the confluence with Unnamed Tributary to Ogles Creek | +534 | +533
Prairie Du Pont Diversion Channel | At confluence with Mississippi River | +423 | +422 | Unincorporated Areas of St. Clair County.
| Approximately 1,200 feet upstream of confluence with Mississippi River | +423 | +422
Richland Creek | Approximately 3,000 feet downstream of Schluetter-Germaine Road | +450 | +449 | City of Belleville, City of Ofallon, Unincorporated Areas of St. Clair County, Village of Shiloh, Village of Smithton, Village of Swansea.
| Approximately 1,090 feet upstream of North Green Mount Road | None | +530
Silver Creek | At confluence with Kaskaskia River | +395 | +394 | Unincorporated Areas of St. Clair County.
| Approximately 250 feet downstream of Five Forks Road | +395 | +394
Wolf Branch | At confluence with Richland Creek | +500 | +496 | Village of Swansea.
| Approximately 30 feet downstream of Morgan Street | +500 | +499
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Belleville
Maps are available for inspection at City Hall, Department of Economic Development and Planning, 101 South Illinois Street, Belleville, IL 62220.
City of Centreville
Maps are available for inspection at City Hall, 5800 Bond Avenue, Centreville, IL 62207.
City of East St. Louis
Maps are available for inspection at City Hall, 301 River Park Drive, East St. Louis, IL 62201.
City of O'Fallon
Maps are available for inspection at City Hall, 255 South Lincoln Street, O'Fallon, IL 62269.
Unincorporated Areas of St. Clair County
Maps are available for inspection at the County Courthouse, 10 Public Square, 2nd Floor, Belleville, IL 62220.
Village of Alorton
Maps are available for inspection at the Village Hall, 4821 Bond Avenue, Alorton, IL 62207.
Village of Brooklyn
Maps are available for inspection at the Village Hall, 312 South 5th Street, Lovejoy, IL 62059.
Village of Cahokia
Maps are available for inspection at the Village of Cahokia Annex Building, Department of Code Enforcement, 201 West 4th Street, Cahokia, IL 62206.
Village of Caseyville
Maps are available for inspection at the Village Hall, 909 South Main Street, Caseyville, IL 62232.
Village of Dupo
Maps are available for inspection at the Village Hall, 100 North 2nd Street, Dupo, IL 62239.
Village of East Carondelet
Maps are available for inspection at the Village Hall, 950 State Street, East Carondelet, IL 62240.
Village of Fairmont City
Maps are available for inspection at the Village Hall, 2601 North 41st Street, Fairmont City, IL 62201.
Village of New Athens
Maps are available for inspection at the Village Hall, 905 Spotsylvania Avenue, New Athens, IL 62264.
Village of Sauget
Maps are available for inspection at the Village Hall, 2897 Falling Springs Road, Sauget, IL 62206.
Village of Shiloh
Maps are available for inspection at the Village Hall, 1 Park Drive, Shiloh, IL 62269.
Village of Smithton
Maps are available for inspection at the Village Hall, 101 South Main Street, Smithton, IL 62285.
Village of Swansea
Maps are available for inspection at the Government Center, 1400 North Illinois Street, Swansea, IL 62226.
Village of Washington Park
Maps are available for inspection at the Village Hall, 5218 North Park Drive, Washington Park, IL 62204.
St. Charles County, Missouri, and Incorporated Areas
Blanchette Creek (Backwater from Missouri River) | Just downstream of Katy Trail/Abandoned Railroad | +454 | +455 | Unincorporated Areas of St. Charles County, City of St. Charles.
| At the confluence with the Missouri River | +454 | +455
Crystal Springs Creek (Backwater from Missouri River) | At the confluence with the Missouri River | +456 | +457 | Unincorporated Areas of St. Charles County, City of St. Charles.
| Approximately 871 feet upstream of South River Road | +456 | +457
Duckett Creek (Overflow from Missouri River) | At the confluence with the Missouri River | +461 | +462 | Unincorporated Areas of St. Charles County.
| Approximately 0.5 miles upstream of Jungs Station Road | +462 | +463
Femme Osage Creek (Backwater from Missouri River) | Approximately 0.4 miles downstream of State Highway 94 | +474 | +476 | Unincorporated Areas of St. Charles County.
| Approximately 1.4 miles downstream of Defiance Road | +475 | +476
Mississippi River | At the St. Charles County, Missouri/St. Louis County, Missouri/Madison County, Illinois county boundary, approximately 6.2 miles downstream of Melvin Price Lock and Dam | +436 | +434 | Unincorporated Areas of St. Charles County, City of O'Fallon, City of Portage Des Sioux, City of St. Charles, City of St. Paul, City of St. Peters, Town of West Alton.
| At the St. Charles County/Lincoln County boundary, approximately 3.0 miles upstream of confluence with Peruue Creek | +445 | +444
Missouri River | At the St. Charles County, Missouri/St. Louis County, Missouri/Madison County, Illinois county boundary, approximately 7.4 miles downstream of the Lewis Bridge | +436 | +434 | Unincorporated Areas of St. Charles County, City of St. Charles, City of Weldon Spring, Town of West Alton, Village of Augusta.
| Near the St. Charles County/Warren County boundary, approximately 22.3 miles upstream of the Daniel Boone Bridge | +486 | +492
Taylor Branch (Backwater from Missouri River) | At the confluence with the Missouri River | +458 | +460 | Unincorporated Areas of St. Charles County, City of St. Charles.
| Approximately 0.6 miles upstream of South River Road | +458 | +460
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of O'Fallon
Maps are available for inspection at 100 North Main Street, O'Fallon, MO 63366.
City of Portage Des Sioux
Maps are available for inspection at 201 North 2nd Street, Room 420, St. Charles, MO 63301.
City of St. Charles
Maps are available for inspection at 200 North 2nd Street, St. Charles, MO 63301.
City of St. Paul
Maps are available for inspection at 2300 St. Paul Road, St. Paul, MO 63366.
City of St. Peters
Maps are available for inspection at 1 St. Peters Centre Boulevard, St. Peters, MO 63376.
City of Weldon Spring
Maps are available for inspection at 5401 Independence Road, Weldon Springs, MO 63304.
Town of West Alton
Maps are available for inspection at 201 North Second Street, Room 420, St. Charles, MO 63301.
Unincorporated Areas of St. Charles County
Maps are available for inspection at 201 North Second Street, Room 420, St. Charles, MO 63301.
Village of Augusta
Maps are available for inspection at 201 North Second Street, Room 420, St. Charles, MO 63301.
St. Louis County, Missouri, and Incorporated Areas
Ball Creek | Approximately 450 feet upstream of I-70 | None | +523 | City of Normandy.
Bonhomme Creek (Backwater from the Missouri River) | At the confluence with Caulks Creek | +463 | +465 | City of Chesterfield.
| Approximately 1,300 feet upstream of Chesterfield Airport Road | +464 | +465
Coldwater Creek | Approximately 400 feet downstream of Elsa Avenue | None | +554 | City of Woodson Terrace.
| Just upstream of Isolda Avenue | None | +557
Creve Coeur Creek (Overflow from the Missouri River) | Approximately 1.3 miles downstream of Creve Coeur Mill Road | +460 | +461 | City of Chesterfield, City of Maryland Heights.
| Just upstream of Creve Coeur Mill Road | +462 | +463
Dellwood Creek | Approximately 900 feet upstream of Bon Oak Drive | None | +485 | City of Dellwood.
| Approximately 1,450 feet upstream of Bon Oak Drive | None | +487
Engelholm Creek | Approximately 450 feet downstream of Bartmer Avenue | None | +498 | City of University City.
| Just upstream of Bartmer Avenue | None | +502
Fee Fee Creek (Backwater from the Missouri River) | Downstream of Richard Farm Road | +457 | +458 | Village of Champ, City of Maryland Heights.
| Just upstream of Creve Coeur Mill Road | +457 | +458
Grand Glaize East Creek | Approximately 1,200 feet upstream of Barrett Station Road | None | +472 | City of Des Peres.
Lemay Creek (Backwater from the Mississippi River) | Approximately 700 feet upstream of Krumm Road | +417 | +416 | Unincorporated Areas of St. Louis County.
| Approximately 2,000 feet upstream of Krumm Road | +417 | +416
Maline Creek (Backwater from the Mississippi River) | Approximately 0.5 miles downstream of St Cyr Road | +433 | +431 | City of Bellefontaine Neighbors, Village of Riverview.
| Approximately 1,300 feet downstream of St Cyr Road | +433 | +431
Mattese Creek (Backwater from the Mississippi River) | At the confluence with the Mississippi River | +417 | +415 | Unincorporated Areas of St. Louis County.
| Just downstream of Old Baumgartner Road | +417 | +415
Meramec River (Backwater from the Mississippi River) | At the confluence with the Mississippi River | +417 | +415 | Unincorporated Areas of St. Louis County.
| Approximately 2,000 feet upstream of Lemay Ferry Road | +417 | +415
Mississippi River Lower Reach | At the confluence with the Meramec River | +417 | +415 | Unincorporated Areas of St. Louis County.
| Approximately 1.0 mile upstream of Interstate 255 | +421 | +420
Mississippi River Upper Reach | Approximately 3.9 miles downstream of confluence with the Missouri River | +434 | +433 | Unincorporated Areas of St. Louis County.
| At confluence with the Missouri River | +435 | +434
Missouri River | At confluence with the Mississippi River | +435 | +434 | Unincorporated Areas of St. Louis County, City of Bridgeton, City of Chesterfield, City of Florissant, City of Hazelwood, City of Maryland Heights, Village of Champ.
| Approximately 5.8 miles upstream of Interstate 64 | +474 | +476
Watkins Creek (Backwater from the Mississippi River) | At the confluence with the Mississippi River | +434 | +433 | Unincorporated Areas of St. Louis County.
| Approximately 1,250 feet upstream of Coal Bank Road | +434 | +433
Wildhorse Creek (Backwater from the Missouri River) | Just downstream of Centaur Road | +472 | +473 | City of Wildwood.
| Approximately 0.6 miles downstream of Wild Horse Creek Road | +472 | +473
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bellefontaine Neighbors
Maps are available for inspection at 9641 Bellefontaine Road, Bellefontaine Neighbors, MO 63137.
City of Bridgeton
Maps are available for inspection at 11955 Natural Bridge Road, Bridgeton, MO 63044.
City of Chesterfield
Maps are available for inspection at 690 Chesterfield Parkway West, Chesterfield, MO 63017.
City of Dellwood
Maps are available for inspection at 1415 Chambers Road, Dellwood, MO 63135.
City of Des Peres
Maps are available for inspection at 12325 Manchester Road, Des Peres, MO 63131.
City of Florissant
Maps are available for inspection at 955 Rue Saint Francois Street, Florissant, MO 63031.
City of Hazelwood
Maps are available for inspection at 415 Elm Grove Lane, Hazelwood, MO 63042.
City of Maryland Heights
Maps are available for inspection at 11911 Dorsett Road, Maryland Heights, MO 63043.
City of Normandy
Maps are available for inspection at 7700 Natural Bridge Road, Normandy, MO 63121.
City of University City
Maps are available for inspection at 6801 Delmar Boulevard, University City, MO 63130.
City of Wildwood
Maps are available for inspection at 183 Plaza Drive, Wildwood, MO 63040.
City of Woodson Terrace
Maps are available for inspection at 9351 Guthrie Avenue, Woodson Terrace, MO 63134.
Unincorporated Areas of St. Louis County
Maps are available for inspection at 121 South Meramec Avenue, Clayton, MO 63105.
Village of Champ
Maps are available for inspection at 121 South Meramec Avenue, Clayton, MO 63105.
Village of Riverview
Maps are available for inspection at 9699 Lilac Drive, Riverview, MO 63137.

(Catalog of Federal Domestic Assistance No. 97.022, “Flood Insurance.”)

Dated: July 1, 2009.
Deborah S. Ingram,
Acting Deputy Assistant Administrator for Mitigation, Mitigation Directorate, Department of Homeland Security, Federal Emergency Management Agency.

[FR Doc. E9-16085 Filed 7-7-09; 8:45 am]

BILLING CODE 9110-12-P